POSTAL SERVICE BOARD OF GOVERNORS

Sunshine Act Meeting

TIMES AND DATES: 12:00 p.m., Monday, April 8, 2002; 8:30 a.m., Tuesday, April 9, 2002.

PLACE: Washington, D.C., at U.S. Postal Service Headquarters, 475 L'Enfant Plaza, S.W., in the Benjamin Franklin Room.

STATUS: April 8—12:00 p.m. (Closed); April 9—8:30 a.m. (Open).

MATTERS TO BE CONSIDERED:

Monday, April 8—12:00 p.m. (Closed)

1. Financial Performance.

2. Confirm.

3. Postal Rate Commission Opinion and Recommended Decision in Docket No. R2001-1, Omnibus Rate Case.

4. Strategic Planning.

5. Personnel Matters and Compensation Issues.

Tuesday, April 9—8:30 a.m. (Open)

1. Minutes of the Previous Meeting, March 4-5, 2002.

2. Remarks of the Postmaster General and CEO.

3. Fiscal Year 2001 Comprehensive Statement on Postal Operations.

4. Quarterly Report on Financial Results.

5. Quarterly Report on Service Performance.

6. Alternate Dispute Resolution.

7. Capital Investment.

a. Postal Automated Redirection System (PARS), Phase 1.

8. Tentative Agenda for the May 6-7, 2002, meeting in Washington, DC.

CONTACT PERSON FOR MORE INFORMATION: William T. Johnstone, Secretary of the Board, U.S. Postal Service, 475 L'Enfant Plaza, SW., Washington, DC 20260-1000. Telephone (202) 268-4800.

William T. Johnstone,
Secretary.

[FR Doc. 02-7935 Filed 3-28-02; 2:30 pm]

BILLING CODE 7710-12-M